DEPARTMENT OF ENERGY

Federal Energy Regulatory Commission

[Docket No. ER001-511-000, et al.]

Williams Energy Marketing & Trading Company, et al.; Electric Rate and Corporate Regulation Filings

November 30, 2000.

Take notice that the following filings have been made with the Commission:

1. Williams Energy Marketing & Trading Company

[Docket No. ER01-511-000]

Take notice that on November 27, 2000, Williams Energy Marketing & Trading Company (Williams EM&T), tendered for filing pursuant to Section 205 of the Federal Power Act (FPA), 16 U.S.C. § 824d (1994) and Part 35 of the Commission's Regulations, 18 CFR 35, revised Reliability Must-Run Service Agreements (RMR Agreements) between Williams EM&T and the California Independent System Operator Corporation (ISO) for certain RMR units located at the Alamitos, Huntington Beach, and Redondo Beach Generating Stations.

The purpose of the filing is to comply with the Commission Order issued in Docket Nos. ER98-441-022, et al., accepting an Offer of Settlement filed by Williams EM&T and other parties on August 14, 2000, 93 FERC ¶ 61,089 (October 26, 2000).

Comment date: December 18, 2000, in accordance with Standard Paragraph E at the end of this notice.

2. Wisconsin Public Service Corporation

[Docket No. ER01-495-000]

Take notice that on November 21, 2000, on behalf of WPS Resources Operating Companies (WPSR), Wisconsin Public Service Corporation (WPSC), tendered for filing a revised partial requirements service agreement with Manitowoc Public Utilities (MPU). First Revised Service Agreement No. 5 provides MPU's contract demand nominations for January 2001—December 2005, under WPSC's W-2A partial requirements tariff.

The company states that copies of this filing have been served upon MPU and to the State Commissions where WPSC serves at retail.

Comment date: December 12, 2000, in accordance with Standard Paragraph E at the end of this notice.

3. PJM Interconnection, L.L.C.

[Docket No. ER01-494-000]

Take notice that on November 21, 2000, PJM Interconnection, L.L.C. (PJM), tendered for filing Thirty-four (34) signatory pages of parties to the Operating Agreement.

PJM requests an effective date on day after this Notice is received by FERC.

Comment date: December 12, 2000, in accordance with Standard Paragraph E at the end of this notice.

4. New England Power Pool

[Docket No. ER01-493-000]

Take notice that on November 21, 2000, the New England Power Pool (NEPOOL) Participants Committee submitted changes to Market Rules and Procedures 3-A, 5, and 11, and informed the Commission of a delay in the implementation of electronic dispatch. A waiver of the Commission's notice requirements has been requested to permit the revisions to Market Rules 3-A and 5 to become effective as of December 16, 2000 and December 21, 2000 respectively.

A February 21 effective date has been requested for the revisions to Market Rule 11.

In addition, NEPOOL has notified the Commission that the implementation of electronic dispatch within the NEPOOL Control Area has been delayed from December 5 to December 16, 2000.

The NEPOOL Participants Committee states that copies of these materials were sent to the New England state governors and regulatory commissions and the Participants in the New England Power Pool.

Comment date: December 12, 2000, in accordance with Standard Paragraph E at the end of this notice.

5. Carolina Power & Light Company

[Docket No. ER01-492-000]

Take notice that on November 21, 2000, Carolina Power & Light Company (CP&L), tendered for filing a First Revised Service Agreement No. 197 (Revised Agreement) between CP&L and North Carolina Electric Membership Corporation (NCEMC) under CP&L's market-based rate tariff, FERC Electric Tariff Volume No. 4. The Revised Agreement included an amendment to the assignment provision in Section 11.7.

CP&L requested that the Revised Agreement become effective on January 1, 2001.

Copies of the filing were served upon the North Carolina Utilities Commission, the South Carolina Public Service Commission and NCEMC.

Comment date: December 12, 2000, in accordance with Standard Paragraph E at the end of this notice.

6. Northern Indiana Public Service Company

[Docket No. ER01-491-000]

Take notice that on November 21, 2000, Northern Indiana Public Service Company (Northern Indiana), tendered for filing a Service Agreement pursuant to its Wholesale Market-Based Rate Tariff with El Paso Merchant Energy, L.P., (El Paso).

Northern Indiana has requested an effective date of November 21, 2000.

Copies of this filing have been sent to El Paso, the Indiana Utility Regulatory Commission, and the Indiana Office of Utility Consumer Counselor.

Comment date: December 12, 2000, in accordance with Standard Paragraph E at the end of this notice.

7. Arizona Public Service Company

[Docket No. ER01-490-000]

Take notice that on November 21, 2000, Arizona Public Service Company (APS), tendered for filing a Transmission Service Agreements to provide Non-Firm Point-to-Point Transmission Service to the Navajo Tribal Utility Authority under APS' Open Access Transmission Tariff.

A copy of this filing has been served on the Navajo Tribal Utility Authority and the Arizona Corporation Commission.

Comment date: December 12, 2000, in accordance with Standard Paragraph E at the end of this notice.

8. Southwestern Public Service Company

[Docket No. ER01-489-000]

Take notice that on November 21, 2000, Xcel Energy Services, Inc., on behalf of Southwestern Public Service Company (Southwestern), tendered for filing an executed umbrella service agreement under Southwestern's market-based sales tariff with Sunflower Electric Power Corporation (Sunflower). This umbrella service agreement provides for Southwestern's sale and Sunflower's purchase of capacity and energy at market-based rates pursuant to Southwestern's market-based sales tariff.

Comment date: December 12, 2000, in accordance with Standard Paragraph E at the end of this notice.

9. DPL Energy

[Docket No. ER01-56-001]

Take notice that on October 20, 2000, DPL Energy (DPLE), tendered for filing an amended long-term transaction agreement with The Dayton Power and Light Company to comply with Order No. 614.

Comment date: December 8, 2000, in accordance with Standard Paragraph E at the end of this notice.

10. American Transmission Company LLC

[Docket No. ER01-488-000]

Take notice that on November 21, 2000, American Transmission Company LLC (ATCLLC), tendered for filing a Network Operating Agreement between ATCLLC and Madison Gas and Electric Company.

ATCLLC requests an effective date of January 1, 2001.

Comment date: December 12, 2000, in accordance with Standard Paragraph E at the end of this notice.

11. Southwestern Public Service Company

[Docket No. ER01-487-000]

Take notice that on November 21, 2000, Excel Energy Services, Inc., on behalf of Southwestern Public Service Company (Southwestern), tendered for filing an umbrella service agreement between Southwestern and Northern States Power Corporation under Southwestern's Rate Schedule for the Sale Assignment, or Transfer of Transmission Rights.

Comment date: December 12, 2000, in accordance with Standard Paragraph E at the end of this notice.

12. Commonwealth Edison Company

[Docket No. ER01-486-000]

Take notice that on November 21, 2000, Commonwealth Edison Company (ComEd), tendered for filing two amended Network Service Agreements (NSA) between ComEd and MidAmerican Energy Company (MEC), and between ComEd and Nicor Energy, L.L.C. (Nicor). ComEd asks that the MEC NSA supersede and be substituted for the NSA with MEC previously filed on November 17, 1999 in Docket No. ER00-589-000. ComEd asks that the Nicor NSA supersede and be substituted for the NSA with Nicor previously filed on December 22, 1999 in Docket No. ER00-884-000. The NSAs have been amended to change the termination date set forth in Section 3.2. The NSAs govern ComEd's provision of network service to serve retail load under the terms of ComEd's Open Access Transmission Tariff (OATT).

ComEd requests an effective date of November 1, 2000 and December 10, 2000 for the MEC and Nicor NSAs, respectively, and therefore seeks waiver of the Commission's notice requirements.

Copies of this filing were served on MEC and Nicor.

Comment date: December 12, 2000, in accordance with Standard Paragraph E at the end of this notice.

13. Allegheny Energy Service Corporation on behalf of Allegheny Energy Supply Company, LLC

[Docket No. ER01-485-000]

Take notice that on November 21, 2000, Allegheny Energy Service Corporation on behalf of Allegheny Energy Supply Company, LLC (Allegheny Energy Supply), tendered for filing Service Agreement No. 102 to add one (1) new Customer to the Market Rate Tariff under which Allegheny Energy Supply offers generation services.

Allegheny Energy Supply requests a waiver of notice requirements for an effective date of October 26, 2000 for NRG Power Marketing, Inc.

Copies of the filing have been provided to the Public Utilities Commission of Ohio, the Pennsylvania Public Utility Commission, the Maryland Public Service Commission, the Virginia State Corporation Commission, the West Virginia Public Service Commission, and all parties of record.

Comment date: December 12, 2000, in accordance with Standard Paragraph E at the end of this notice.

14. American Transmission Company LLC

[Docket No. ER01-484-000]

Take notice that on November 21, 2000, American Transmission Company LLC (ATCLLC), tendered for filing a Generation-Transmission Interconnection Agreement between ATCLLC and Wisconsin Power & Light Company.

ATCLLC requests an effective date of January 1, 2001.

Comment date: December 12, 2000, in accordance with Standard Paragraph E at the end of this notice.

15. American Transmission Company LLC

[Docket No. ER01-483-000]

Take notice that on November 21, 2000, American Transmission Company LLC (ATCLLC) tendered for filing a Distribution-Transmission Agreement between ATCLLC and Wisconsin Power & Light Company.

ATCLLC requests an effective date of January 1, 2001.

Comment date: December 12, 2000, in accordance with Standard Paragraph E at the end of this notice.

16. DPL Energy Resources, Inc.

[Docket No. ER01-462-000]

Take notice that on November 16, 2000, DPL Energy Resources, Inc. (DPLER), a wholly owned subsidiary of DPL Inc., tendered for filing a rate schedule to engage in sales at market-based rates. DPLER included in its filing a proposed code of conduct.

Comment date: December 7, 2000, in accordance with Standard Paragraph E at the end of this notice.

17. Jersey Central Power & Light Company Metropolitan Edison Company Pennsylvania Electric Company

[Docket No. ER98-702-002]

Take notice that on November 22, 2000, Jersey Central Power & Light Company, Metropolitan Edison Company and Pennsylvania Electric Company (doing business and hereinafter referred to as GPU Energy) reported changes in status that reflect a departure from the facts relied upon by the Commission in its grant of market-based authority to GPU Energy.

Comment date: December 13, 2000, in accordance with Standard Paragraph E at the end of this notice.

18. Illinois Power Company

[Docket No. ER99-1331-003]

Take notice that on November 24, 2000, Illinois Power Company (Illinois Power), 500 South 27th Street, Decatur, Illinois 65251-2200, submitted for filing a Refund Report as required by the Letter Order of November 24, 2000 in docket No. ER99-1331-000.

Illinois Power states that a copy of the Refund Report has been served on all parties in Docket No. ER99-1331-000 and to the Illinois Commerce Commission.

Comment date: December 15, 2000, in accordance with Standard Paragraph E at the end of this notice.

19. American Electric Power Service Corporation

[Docket No. ER00-3517-001]

Take notice that on November 22, 2000, American Electric Power Service Corporation, tendered for filing, on behalf of the operating companies of the American Electric Power System (AEP), a Compliance Filing in the above-referenced Docket.

Copies of the filing have been served upon AEP's transmission customers and the state utility regulatory commissions of Arkansas, Indiana, Kentucky, Louisiana, Michigan, Ohio, Oklahoma, Tennessee, Texas, Virginia and West Virginia.

Comment date: December 13, 2000, in accordance with Standard Paragraph E at the end of this notice.

20. Entergy Services, Inc.

[Docket No. ER01-62-001]

Take notice that on November 22, 2000, Entergy Services, Inc. (Entergy) filed an exhibit to the filing previously submitted to the Federal Energy Regulatory Commission by Entergy on October 6, 2000 in the above-referenced proceeding.

Comment date: December 13, 2000, in accordance with Standard Paragraph E at the end of this notice.

21. Wisconsin Public Service Corporation

[Docket No. ER01-118-001]

Take notice that on November 22, 2000, on behalf of WPS Resources Operating Companies (WPSR), Wisconsin public Service Corporation (WPSC) tendered for filing a revised partial requirements service agreement with Washington Island Electric Cooperative (WIEC). First Revised Service Agreement No. 9 provides WIEC's contract demand nominations for January 2001—December 2005, under WPSC's W-2A partial requirements tariff.

The company states that copies of this filing have been served upon WIEC and to the State Commissions where WPSC serves at retail.

Comment date: December 13, 2000, in accordance with Standard Paragraph E at the end of this notice.

22. Southern Energy Delta, L.L.C. Southern Energy Potrero, L.L.C.

[Docket No. ER01-362-001]

Take notice that, on November 22, 2000, Southern Energy Delta, L.L.C. and Southern Energy Potrero, L.L.C. filed certain errata to their November 3, 2000 filing in the above-referenced docket, in the form of corrected tariff sheets to the filing as well as redlined pages showing the changes made.

Comment date: December 13, 2000, in accordance with Standard Paragraph E at the end of this notice.

23. Consumers Energy Company

[Docket No. ER01-496-000]

Take notice that on November 22, 2000, Consumers Energy Company (Consumers) tendered for filing an executed Service Agreement for Firm and Non-Firm Point to Point Transmission Service Agreement with Quest Energy, L.L.C. (Customer) pursuant to the Joint Open Access Transmission Service Tariff filed on December 31, 1996 by Consumers and The Detroit Edison Company (Detroit Edison).

Consumers is requesting an effective date of October 25, 2000. Customer is taking service under the Service Agreement in connection with Consumers' Electric Customer Choice Plan.

Copies of the filed agreement were served upon the Michigan Public Service Commission, Detroit Edison, and the Customer.

Comment date: December 13, 2000, in accordance with Standard Paragraph E at the end of this notice.

24. Carolina Power & Light Company

[Docket No. ER01-498-000]

Take notice that on November 22, 2000, Carolina Power & Light Company (CP&L) tendered for filing an executed Service Agreement between CP&L and the following eligible buyer, PSEG Energy Resources & Trade LLC. Service to this eligible buyer will be in accordance with the terms and conditions of CP&L's Market-Based Rates Tariff, FERC Electric Tariff No. 4, for sales of capacity and energy at market-based rates.

CP&L requests an effective date of November 14, 2000 for this Service Agreement.

Copies of the filing were served upon the North Carolina Utilities Commission and the South Carolina Public Service Commission.

Comment date: December 13, 2000, in accordance with Standard Paragraph E at the end of this notice.

25. Commonwealth Edison Company

[Docket No. ER01-497-000]

Take notice that on November 22, 2000, Commonwealth Edison Company (ComEd) submitted for filing three executed Non-Firm Transmission Service Agreements with the Ameren Energy Marketing (AEM), Consumers Energy Company (CEC), and Upper Peninsula Power Company (UPP); one unexecuted Non-Firm Transmission Service Agreement with LS Power, LLC (LSP); ten executed Short-Term Transmission Service Agreements with Aquila Energy Marketing Corporation (AEMC), Ameren Energy Marketing (AEM) Florida Power Corporation (FPC), Griffin Energy Marketing, L.L.C. (GEM), Minnesota Power, Inc. (MP), New York State Electric & Gas Corporation (NYSEG), City of Rochelle, Illinois (ROCH), Strategic Energy, L.L.C. (SEL), Upper Peninsula Power Company (UPP), and Williams Energy Marketing & Trading Company (WEMT) under the terms of ComEd's Open Access Transmission Tariff (OATT).

Upon the request of AEMC and WEMT, ComEd is submitting re-executed Agreements for AEMC and WEMT that reflect the new names of these companies. The Agreement with AEMC was previously filed in Docket No. ER98-446-000, granted an effective date of October 8, 1997 and designated Service Agreement No. 195. The Agreement with WEMT was previously filed in Docket No. ER98-3779-000, granted an effective date of June 21, 1998 and designated Service Agreement No. 296. ComEd respectfully requests that the re-executed Agreements for AEMC and WEMT be granted the same effective dates as was accorded them in Docket Nos. ER98-446-000 and ER98-3779-000 proceedings. Good cause supports ComEd's request as the re-execution of these Agreements is being done at the request of AEMC and WEMT so as to reflect the new names of AEMC and WEMT. See Central Hudson Gas & Electric Company, 60 FERC 61,106(1992).

ComEd also submitted for filing an updated Index of Customers reflecting name changes for current customers Aquila Power renamed Aquila Energy Marketing Corporation (AEMC), Ameren Services Company renamed Ameren Energy Inc. (AEI), Public Service Electric and Gas Company renamed PSEG Energy Resources & Trade LLC (PSEG ER&T), Calpine Power Services Company renamed Calpine Energy Services, L.P. (CES), Amoco Energy Trading Corporation renamed BP Energy Company (BP), Minnesota Power and Light Company renamed Minnesota Power, Inc. (MP), Citizens Power LLC renamed Edison Mission Marketing & Trading, Inc. (EMMT), and Williams Energy Services Company renamed Williams Energy Marketing & Trading Company (WEMT).

ComEd requests an effective date of November 22, 2000 for the Non-Firm- Agreements with AEM, CEC and LSP; and effective date of November 9, 2000 for the Non-Firm Agreement with UPP to coincide with the first day of service, and an effective date of November 22, 2000 for the Short-Term Firm Agreements with AEMC, AEM, FPC, GEM, MP, NYSEG, ROCH, SEL, UPP and WEMT and accordingly, seeks waiver of the Commission's notice requirements.

Comment date: December 13, 2000, in accordance with Standard Paragraph E at the end of this notice.

26. Xcel Energy Operating Companies, Northern States Power Company, Northern States Power Company (Wisconsin)

[Docket No. ER01-499-000]

Take notice that on November 22, 2000, Northern States Power Company and Northern States Power Company (Wisconsin) (jointly NSP), wholly-owned utility operating company subsidiaries of Xcel Energy Inc., tendered for filing a Firm Point-to-Point Transmission Service Agreement between NSP and Alliant Energy Corporate Services Inc. NSP proposes the Agreement be included in the Xcel Energy Operating Companies FERC Joint Open Access Transmission Tariff, Original Volume No. 2, as Service Agreement 176-NSP, pursuant to Order No. 614.

NSP requests that the Commission accept the agreement effective November 1, 2000, and requests waiver of the Commission's notice requirements in order for the agreements to be accepted for filing on the date requested.

Comment date: December 13, 2000, in accordance with Standard Paragraph E at the end of this notice.

27. Cinergy Services, Inc.

[Docket No. ER01-500-000]

Take notice that on November 22, 2000, Cinergy Services, Inc. (Cinergy) tendered for filing a Service Agreement under Cinergy's Resale, Assignment or Transfer of Transmission Rights and Ancillary Service Rights Tariff (the Tariff) entered into between Cinergy and Wabash Valley Power Association, Inc. (WVPA).

Comment date: December 13, 2000, in accordance with Standard Paragraph E at the end of this notice.

28. California Independent System Operator Corporation

[Docket No. ER01-501-000]

Take notice that on November 22, 2000, the California Independent System Operator Corporation (ISO) tendered for filing a notice concerning the termination of the Participating Generator Agreement (PGA) between the ISO and Burney Forest Power.

The ISO requests that the PGA be terminated effective as of October 13, 2000.

The ISO states that copies of this filing have been served on Burney Forest Power and the California Public Utilities Commission.

Comment date: December 13, 2000, in accordance with Standard Paragraph E at the end of this notice.

29. California Independent System Operator Corporation

[Docket No. ER01-502-000]

Take notice that on November 22, 2000, the California Independent System Operator Corporation (ISO) tendered for filing a notice concerning the termination of the Meter Service Agreement for ISO Metered Entities (MSA-ME) between the ISO and Burney Forest Power (Burney).

The ISO requests that the MSA-ME be terminated effective as of October 13, 2000.

The ISO states that copies of this filing have been served on Burney and the California Public Utilities Commission.

Comment date: December 13, 2000, in accordance with Standard Paragraph E at the end of this notice.

30. Entergy Services, Inc.

[Docket No. ER01-503-000]

Take notice that on November 22, 2000, Entergy Services, Inc., on behalf of Entergy Arkansas, Inc., tendered for filing an Interconnection and Operating Agreement with TPS Dell LLC, f/k/a/ GenPower Dell LLC (TPS Dell), and a Generator Imbalance Agreement with TPS Dell.

Comment date: December 13, 2000, in accordance with Standard Paragraph E at the end of this notice.

31. Southwestern Electric Power Company

[Docket No. ER01-504-000]

Take notice that on November 22, 2000, Southwestern Electric Power Company (SWEPCO) filed a Restated and Amended Electric System Interconnection Agreement (Agreement) between SWEPCO and Louisiana Generating LLC (LaGen). The Agreement supersedes in its entirety the 1988 Electric System Interconnection Agreement, as amended, between SWEPCO and Cajun Electric Power Cooperative (Cajun). In March 2000, LaGen acquired Cajun.

SWEPCO seeks an effective date of June 15, 2000 and, accordingly, seeks waiver of the Commission's notice requirements.

Copies of the filing have been served on LaGen and on the Louisiana Public Service Commission.

Comment date: December 13, 2000, in accordance with Standard Paragraph E at the end of this notice.

32. NEV California, L.L.C.

[Docket No. ER01-505-000]

Take notice that on November 22, 2000, NEV California, L.L.C. (NEV California) tendered for filing a notice of cancellation in operations pursuant to 18 CFR 35.14 in order to reflect the cancellation of its market-rate tariff originally accepted for filing by the Commission in Docket No. ER97-4653-000.

Comment date: December 13, 2000, in accordance with Standard Paragraph E at the end of this notice.

33. NEV East, L.L.C.

[Docket No. ER01-506-000]

Take notice that on November 22, 2000, NEV East, L.L.C. (NEV East) tendered for filing a notice of cancellation in operations pursuant to 18 CFR 35.15 in order to reflect the cancellation of its market-rate tariff originally accepted for filing by the Commission in Docket No. ER97-4652-000.

Comment date: December 13, 2000, in accordance with Standard Paragraph E at the end of this notice.

34. AES New Energy, Inc.

[Docket No. ER01-507-000]

Take notice that on November 22, 2000, AES New Energy, Inc. (AES New Energy) tendered for filing a notice of succession in operations pursuant to 18 CFR 35.16, in order to reflect its name change from New Energy Ventures, Inc.

Comment date: December 13, 2000, in accordance with Standard Paragraph E at the end of this notice.

35. NEV Midwest, L.L.C.

[Docket No. ER01-508-000]

Take notice that on November 22, 2000, NEV Midwest, L.L.C. (NEV Midwest) tendered for filing a notice of cancellation in operations pursuant to 18 CFR 35.15, in order to reflect the cancellation of its market-rate tariff originally accepted for filing by the Commission in Docket No. ER97-4654-000.

Comment date: December 13, 2000, in accordance with Standard Paragraph E at the end of this notice.

36. Entergy Services, Inc.

[Docket No. ER01-509-000]

Take notice that on November 22, 2000, Entergy Services, Inc., on behalf of Entergy Mississippi, Inc., tendered for filing an Interconnection and Operating Agreement with Duke Energy Southaven, LLC (Duke Southaven), and a Generator Imbalance Agreement with Duke Southaven.

Comment date: December 13, 2000, in accordance with Standard Paragraph E at the end of this notice.

37. Jersey Central Power & Light Company Metropolitan Edison Company Pennsylvania Electric Company

[Docket No. ER01-510-000]

Take notice that on November 24, 2000, Jersey Central Power & Light Company, Metropolitan Edison Company and Pennsylvania Electric Company (d/b/a GPU Energy), filed an executed Service Agreement between GPU Energy and El Paso Merchant Energy, L.P. (El Paso Power), dated November 22, 2000. This Service Agreement specifies that El Paso Power has agreed to the rates, terms and conditions of GPU Energy's Market-Based Sales Tariff (Sales Tariff) designated as FERC Electric Rate Schedule, Second Revised Volume No. 5. The Sales Tariff allows GPU Energy and El Paso Power to enter into separately scheduled transactions under which GPU Energy will make available for sale, surplus capacity and/or energy.

GPU Energy requests a waiver of the Commission's notice requirements for good cause shown and an effective date of November 22, 2000 for the Service Agreement.

GPU Energy has served copies of the filing on regulatory agencies in New Jersey and Pennsylvania.

Comment date: December 15, 2000, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers
Secretary.

[FR Doc. 00-31121 Filed 12-6-00; 8:45 am]

BILLING CODE 6717-01-P